DEPARTMENT OF THE INTERIOR

Bureau of Indian Affairs

Amendment to Notice of Availability of Draft Environmental Impact Statement for the Confederated Tribes of the Umatilla Indian Reservation's Proposed Coyote Business Park, Umatilla County, OR

AGENCY: Bureau of Indian Affairs, Interior.

ACTION: Notice.

SUMMARY: This notice advises the public that the Bureau of Indian Affairs is amending its Notice of Availability of the Draft Environmental Impact Statement (DEIS) for the Confederated Tribes of the Umatilla Indian Reservation's Proposed Coyote Business Park, Umatilla County, Oregon, which was published in the Federal Register on December 16, 2005 (70 FR 74844). This amendment adds 18 days to the public comment period. All of the other information in the December 16, 2005, notice remains unchanged.

DATES: Written comments on the DEIS must now arrive by February 17, 2006.

ADDRESSES: You may mail written comments to Jerry L. Lauer, Acting Superintendent, Bureau of Indian Affairs, Umatilla Agency, P.O. Box 520, Pendleton, Oregon 97801; or hand carry written comments to Mr. Lauer at the Umatilla Agency, 46807 B Street, Mission, Oregon.

FOR FURTHER INFORMATION CONTACT: Jerry L. Lauer, (541) 278-3786.

SUPPLEMENTARY INFORMATION: Comments, including names and addresses of respondents, will be available for public review at the street address shown in the ADDRESSES section during regular business hours, 7:30 a.m. to 4 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses and from individuals identifying themselves as representatives or officials of organizations or businesses will be made available for public inspection in their entirety.

This notice is published in accordance with § 1503.1 of the Council on Environmental Quality regulations (40 CFR parts 1500 through 1508) implementing the procedural requirements of the National Environmental Policy Act of 1969, as amended (42 U.S.C. 4321 et seq.), and the Department of the Interior Manual (516 DM 1-6), and is in the exercise of authority delegated to the Principal Deputy Assistant Secretary—Indian Affairs by 209 DM 8.

Dated: January 24, 2006.
Michael D. Olsen,
Acting Principal Deputy Assistant Secretary—Indian Affairs.

[FR Doc. E6-1263 Filed 1-31-06; 8:45 am]

BILLING CODE 4310-W7-P